DEPARTMENT OF COMMERCE

National Oceanic and Atmospheric Administration

[XRIN: 0648-XA93]

Gulf of Mexico Fishery Management Council; Public Hearings

AGENCY: National Marine Fisheries Service (NMFS), National Oceanic and Atmospheric Administration (NOAA), Commerce.

ACTION: Notice of public hearings.

SUMMARY: The Gulf of Mexico Fishery Management Council (Council) will convene public hearings on an Aquaculture Amendment.

DATES: The public hearings will held from July 9 - 12, 2007 at 7 locations throughout the Gulf of Mexico. For specific dates and times, see SUPPLEMENTARY INFORMATION.

ADDRESSES: The public hearings will be held in the following locations: N. Redington Beach and Destin, FL; Biloxi, MS; Orange Beach, AL; New Orleans, LA; Galveston and Corpus Christi, TX. For specific locations, see SUPPLEMENTARY INFORMATION.

Council address: Gulf of Mexico Fishery Management Council, 2203 North Lois Avenue, Suite 1100, Tampa, FL 33607.

FOR FURTHER INFORMATION CONTACT: Wayne Swingle, Executive Director; telephone: (813) 348-1630.

SUPPLEMENTARY INFORMATION: The Gulf of Mexico Fishery Management Council (Council) is preparing an amendment which will require persons to obtain a permit from NMFS to participate in aquaculture by constructing an aquaculture facility in the exclusive economic zone (EEZ) of the Gulf of Mexico. Each application for a permit must comply with many permit conditions related to record keeping and operation of the facility. These permit conditions will assure the facility has a minimal affect on the environment and on other fishery resources. Compliance with the conditions will be evaluated annually for the duration of the permit as the basis for renewal of the permit for the next year.

The public hearings will begin at 6 p.m. and conclude at the end of public testimony or no later than 10 p.m. at each of the following locations:

Monday, July 9, 2007, Doubletree Beach Resort, 17120 Gulf Blvd., N. Redington Beach, FL 33708, telephone: (727) 391-4000;

Monday, July 9, 2007, Best Western Cypress Creek, 7921 Lamar Poole Road, Biloxi, MS 39532, telephone: (228) 875-7111;

Tuesday, July 10, 2007, City of Orange Beach, Parks & Rec, 27235 Canal Road, Orange Beach, AL 36561,telephone: (251) 981-6028;

Tuesday, July 10, 2007, W New Orleans, 333 Poydras St., New Orleans, LA 70130, telephone: (504) 525-9444;

Wednesday, July 11, 2007, Embassy Suites Hotel, 570 Scenic Gulf Drive, Destin, FL 32550, telephone: (850) 337-7000;

Wednesday, July 11, 2007, San Luis Resort, 5222 Seawall Boulevard, Galveston, TX 77550, telephone: (409) 744-1500;

Thursday, July 12, 2007, Best Western Marina Grand, 300 N. Shoreline Blvd., Corpus Christi, TX 78401, telephone: (361) 883-5111.

Copies of the Amendment a can be obtained by calling the Council office at (813) 348-1630.

Special Accommodations

These meetings are physically accessible to people with disabilities. Requests for sign language interpretation or other auxiliary aids should be directed to Tina Trezza at the Council (see ADDRESSES) at least 5 working days prior to the meeting.

Dated: June 18, 2007.
Tracey L. Thompson,
Acting Director, Office of Sustainable Fisheries, National Marine Fisheries Service.

[FR Doc. E7-12004 Filed 6-20-07; 8:45 am]

BILLING CODE 3510-22-S